DEPARTMENT OF COMMERCE

National Oceanic and Atmospheric Administration

50 CFR Part 660

[I.D.080902A]

Western Pacific Fishery Management Council; Public Meetings

AGENCY: National Marine Fisheries Service (NMFS), National Oceanic and Atmospheric Administration (NOAA), Commerce.

ACTION: Notice of public meetings/public hearings.

SUMMARY: The Western Pacific Fishery Management Council (Council) will meet on August 29, 2002, at 2 p.m.

ADDRESSES: The Council meeting will be held via telephone conference call at the Council offices, 1164 Bishop Street, Suite 1400, Honolulu Hawaii 96813; telephone: 808-522-8220; FAX: (808)522-8226.

FOR FURTHER INFORMATION CONTACT: Kitty M. Simonds, Executive Director; telephone: 808-522-8220.

SUPPLEMENTARY INFORMATION:

Public Hearing

A public hearing will be conducted for final action on American Samoa longline fishery limited entry program, on Wednesday, August 29, 2002, at 3 p.m.

Public comment periods will be provided throughout the agenda. The order in which agenda items are addressed may change. The Council will meet as late as necessary to complete scheduled business. The agenda during the Council meeting will include the items listed below:

1.Pelagic Fisheries

(i) American Samoa longline limited entry program

(ii) Public hearing

The Council will hold a public hearing on the preferred alternative for the American Samoa longline fishery limited entry program, and may take final action on these management measures. At its 113th meeting, the Council adopted a limited entry program for the American Samoa longline fishery. This action was prompted by the doubling of the number of fishing vessels participating in the American Samoa longline fishery during 2001, and a fourfold rise in the level of fishing effort in terms of hooks set. Unlike Hawaii, American Samoa is surrounded by the exclusive economic zones (EEZs) of other nations and options for fishing elsewhere are limited. Consequently, gear conflict and competition for resources are likely to increase as the level of fishing within the American Samoa EEZ increases. At the 113th Council meeting, the Council reviewed the options for a limited entry program and developed and adopted a preferred alternative that would limit entry into the American Samoa EEZ longline fishery. The proposed program would create four vessel size classes and limit initial entry to historical participants in the longline fishery. Permits would be transferable subject to certain criteria. Provisions would be made to allow participants to upgrade from small to larger longline vessels. The Council also discussed measures to require observers and vessel monitoring systems on some vessels. However, the Council recognized that the final format of the limited entry program required additional revisions to the draft Pelagic Fisheries Management Plan (PFMP) amendment and the draft regulations therein and put these on the agenda for the 114th Council meeting. The Council will review the revised PFMP amendment and regulations, consider final management measures, and vote on whether to send the amendment document to NMFS for review and approval.

2. Fishery rights of indigenous peoples: Community demonstration projects program

A. Selection of projects for funding

B. Solicitation of new project proposalsFollowing the reauthorization of the Magnuson-Stevens Fishery Conservation and Management Act (Magnuson-Stevens Act) in 1996, The Secretary of Commerce and the Secretary of the Interior were authorized to make direct grants to eligible western Pacific communities, as recommended by the Council, for the purpose of establishing fishery demonstration projects to foster and promote traditional indigenous fishing practices. Criteria for fishery demonstration projects were published in April 2002, and proposals for fishery demonstration projects were subsequently solicited. The Native and Indigenous Advisory Panel will review these proposals in the week preceding the Council meeting and recommend to the Council which projects should be funded. The Council may concur with these recommendations or prefer to make recommendations of its own on those projects for funding. The Council may also decide to initiate another request for project proposals.

Other Business

Although non-emergency issues not contained in this agenda may come before the Council for discussion, those issues may not be the subject of formal Council action during this meeting. Council action will be restricted to those issues specifically listed in this document and to any issue arising after publication of this document that requires emergency action under section 305(c) of the Magnuson-Stevens Act, provided that the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 16 U.S.C. 1801 et seq.

Dated: August 9, 2002.
Richard W. Surdi,
Acting Director, Office of Sustainable Fisheries, National Marine Fisheries Service.

[FR Doc. 02-20662 Filed 8-13-02; 8:45 am]

BILLING CODE 3510-22-S